NUCLEAR REGULATORY COMMISSION

[Docket No. 50-285]

Omaha Public Power District, Fort Calhoun Station, Unit 1; Notice of Availability of the Final Supplement 12 to the Generic Environmental Impact Statement Regarding License Renewal for the Fort Calhoun Station, Unit 1

Notice is hereby given that the U.S. Nuclear Regulatory Commission (the Commission) has published a final plant-specific supplement to the “Generic Environmental Impact Statement (GEIS)”, NUREG-1437, regarding the renewal of operating license DPR-40 for Fort Calhoun Station, Unit 1, for an additional 20 years of operation. The Fort Calhoun Station, Unit 1, is owned by the Omaha Public Power District (OPPD). The Fort Calhoun Station, Unit 1, is located in Washington County, Nebraska. Possible alternatives to the proposed action (license renewal) include no action and reasonable alternative methods of power generation.

It is stated in Section 9.3 of the report:

Based on (1) the analysis and findings in the GEIS (NRC 1996; 1999); (2) the ER [Environmental Report] submitted by the OPPD (OPPD 2002); (3) consultation with Federal, State, and local agencies; (4) the staff's own independent review; and (5) the staff's consideration of the public comments received, the recommendation of the staff is that the Commission determine that the adverse environmental impacts of license renewal for Fort Calhoun Station Unit 1 are not so great that preserving the option of license renewal for energy-planning decision makers would be unreasonable.

The final Supplement 12 to the GEIS is available for public inspection in the NRC Public Document Room (PDR) located at One White Flint North, 11555 Rockville Pike (first floor), Rockville, Maryland, or from the Publicly Available Records (PARS) component of NRC's Agencywide Documents Access and Management System (ADAMS). ADAMS is accessible from the NRC Web site at http://www.nrc.gov (the Public Electronic Reading Room). Persons who do not have access to ADAMS, or who encounter problems in accessing the documents located in ADAMS, should contact the PDR reference staff at 1-800-397-4209, 301-415-4737, or by e-mail to pdr@nrc.gov.

For Further Information Contact: Mr. Jack Cushing, License Renewal and Environmental Impacts Program, Division of Regulatory Improvement Programs, U.S. Nuclear Regulatory Commission, Washington, DC 20555. Mr. Cushing may be contacted at (301) 415-1424 or by writing to Jack Cushing, U.S. Nuclear Regulatory Commission, Mail Stop O-11-F1.

Dated at Rockville, Maryland, this 11th day of August, 2003.
For the Nuclear Regulatory Commission.
John Tappert,
Acting Program Director, License Renewal and Environmental Impacts Program, Division of Regulatory Improvement Programs, Office of Nuclear Reactor Regulation.

[FR Doc. 03-20838 Filed 8-14-03; 8:45 am]

BILLING CODE 7590-01-P